FEDERAL COMMUNICATIONS COMMISSION

47 CFR Part 73

[DA 00-552; MM Docket No. 97-251; RM-9199]

Radio Broadcasting Services; Breckenridge and Graford, Texas

AGENCY: Federal Communications Commission.

ACTION: Final rule; dismissal.

SUMMARY: The Commission, at the request of Big Country Radio, Inc., licensee of Station KLXK(FM), Channel 228C2, Breckenridge, Texas, dismisses the petition for rule making requesting the substitution of Channel 228C3 for Channel 228C2 at Brackenridge and the reallotment of Channel 228C3 to Graford, Texas. See 63 FR 02355 (January 15, 1998).

FOR FURTHER INFORMATION CONTACT: Victoria M. McCauley, Mass Media Bureau, (202) 418-2180.

SUPPLEMENTARY INFORMATION: This is a synopsis of the Commission's Report and Order, MM Docket No.97-251, adopted March 1, 2000, and released March 10, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Federal Communications Commission.
John A. Karousos,
Chief, Allocations Branch, Policy and Rules Division, Mass Media Bureau.

[FR Doc. 00-7389 Filed 3-24-00; 8:45 am]

BILLING CODE 6712-01-P